DEPARTMENT OF STATE

[Public Notice: 12531]

Department of State Performance Review Board Members

SUMMARY: The Department of State (DOS) announces the persons who will serve on the Senior Executive Service 2024 Performance Review Board.

DATES: This appointment is effective October 2, 2024.

FOR FURTHER INFORMATION CONTACT: Debby Valentine, Chief, Executive Resources and Performance Management Division, Bureau of Global Talent Management, Office of Civil Service Talent Management, Department of State. Phone: 771-206-2818; email: ValentineDA@state.gov.

SUPPLEMENTARY INFORMATION: This action is being taken in accordance with Title 5, U.S.C., section 4314(c)(4), which requires that members of performance review boards be appointed in a manner to ensure consistency, stability, and objectivity in performance appraisals and requires that notice of the appointment of an individual to serve as a member be published in the Federal Register.

The membership of the Department of State Performance Review Board is as follows:

Sherry Hannah—Career PRB Chair

Christopher Backemeyer

Lisa Grosh

Jeanne Juliao

Eric Stein

Joshua Romero, Non-Career PRB Chair

Jeremy Bernton

Suzy George

Mark Iozzi

Kim R. Bruner,
Director, Bureau of Global Talent Management, Civil Service Talent Management, Department of State.

[FR Doc. 2024-21569 Filed 9-19-24; 8:45 am]

BILLING CODE 4710-15-P